DEPARTMENT OF AGRICULTURE

Office of the Secretary

Solicitation for Membership to the Forestry Research Advisory Council

AGENCY: Office of the Secretary, USDA.

ACTION: Notice.

SUMMARY: In accordance with the Federal Advisory Committee Act, 5 U.S.C. app., the United States Department of Agriculture (USDA) announces solicitation for nominations to fill thirteen vacancies on the Forestry Research Advisory Council.

DATES: Nominations must be received on or before December 20, 2010. Send completed nomination packages to Daina Dravnieks Apple, Senior Staff Assistant, U.S. Forest Service; Research and Development, Forestry Research Advisory Council; U.S. Department of Agriculture; Mail Stop 1120; 1400 Independence Avenue, SW., Washington, DC 20250-1120, if sending by U.S Postal Service. For Express mail use 201 14th St., SW.; Mail Stop 1120; Washington, DC 20024.

FOR FURTHER INFORMATION CONTACT: Daina Dravnieks Apple, Senior Staff Assistant, U.S. Forest Service; Research and Development, Forestry Research Advisory Council; 202-205-1665.

SUPPLEMENTARY INFORMATION: Section 1441 (c) of the Agriculture and Food Act of 1981 requires the establishment of the Forestry Research Advisory Council to provide advice to the Secretary of Agriculture on accomplishing efficiently the purposes of the Act of October 10, 1962 (16 U.S.C. 582a, et seq.), known as the McIntire-Stennis Act of 1962. The Council also provides advice related to the Forest Service research program, authorized by the Forest and Rangeland Renewable Resources Research Act of 1978 (Pub. L. 95-307, 92 Stat. 353, as amended; 16 U.S.C. 1600 (note)). The Council is composed of 20 voting members from the following membership categories:

(1) Federal and State agencies concerned with developing and utilizing the Nation's forest resources, in particular committee membership, will include representation from the National Forest System and Forest and Range Experiment Station leaders, Forest Service;

(2) The forest industries. These are organizations involved in the management of forest lands for which timber production is a component;

(3) The forestry schools of the State certified eligible institutions, and State agricultural experiment stations; and

(4) Volunteer public groups concerned with forests and related natural resources.

The initial Council membership was appointed with staggered terms of 1, 2, and 3 years. As a result of the staggered appointments, the terms of some members will expire during December 2010. Nominations for a 3-year appointment for 13 vacant positions are sought. Nominees will be carefully reviewed for their broad expertise, leadership and relevancy to a membership category. Geographic balance and a balanced distribution among the categories are also important. Vacancies are as follows: Federal and State—3; Industry—3; Academic—3; and Voluntary organizations—4. Nominations for one individual who fits several of the categories or for more than one person who fits one category will be accepted. Please indicate the specific membership category for each nominee. Nominations are open to all individuals without regard for race, color, religion, sex, national origin, age, mental or physical handicap, marital status, or sexual orientation. Nominations are being solicited from universities, organizations, associations, societies, councils, federations, groups, and companies that represent a wide variety of forestry research interests throughout the country. Appointments will be made by the Secretary of Agriculture.

Each nominee must complete Form AD-755, Advisory Committee Membership Background Information (which can be obtained electronically from the USDA Chief Information Office at http://www.ocio.usda.gov/forms/doc/AD-755.pdf or from the contact person listed in the Further Information Contact section of this notice) and will be vetted before selection. Send nominee's name, resume, and the completed Form AD-755 by U.S. mail to:

Daina Dravnieks Apple, Senior Staff Assistant, Forest Service Research and Development, Forestry Research Advisory Council; Mail Stop 1120; 1400 Independence Avenue, SW., Washington, DC 20250-1120. Nominations delivered by express mail or overnight courier service should be sent to: Daina Dravnieks Apple, Senior Staff Assistant, USDA Forest Service; Research and Development, Forestry Research Advisory Council; 201 14th St., SW., Washington, DC 20024.

Dated: October 29, 2010.
Pearlie S. Reed,
Assistant Secretary for Administration.

[FR Doc. 2010-28173 Filed 11-5-10; 8:45 am]

BILLING CODE 3410-11-P